OFFICE OF SCIENCE AND TECHNOLOGY POLICY

Request for Information; Clinical Research Infrastructure and Emergency Clinical Trials; Correction

AGENCY: Office of Science and Technology Policy (OSTP).

ACTION: Notice of Request for Information (RFI); Correction.

SUMMARY: The Office of Science and Technology Policy published a document in the Federal Register of October 25, 2022, concerning a request for information on Clinical Research Infrastructure and Emergency Clinical Trials. This document corrects an error in that notice.

FOR FURTHER INFORMATION CONTACT: Scott Weaver, 202-456-4444.

SUPPLEMENTARY INFORMATION:

Correction

In the Federal Register of October 25, 2022, in FR Doc. 2022-23110, on page 64823, in the third column, in the first paragraph i., correct the first sentence to read:

i. As described above and in the forthcoming RFI on data capture, we are seeking information on how to create a pilot program enabling clinical trial data collection across a wide variety of trial sites that is easy for health care providers to use and can be scaled up for use in emergency research settings.

Dated: October 8, 2022.
Rachel Wallace,
Deputy General Counsel.

[FR Doc. 2022-24666 Filed 11-10-22; 8:45 am]

BILLING CODE 3270-F1-P